DEPARTMENT OF AGRICULTURE

Animal and Plant Health Inspection Service

9 CFR Part 94

[Docket No. 04-083-2]

Add Argentina to the List of Regions Considered Free of Exotic Newcastle Disease; Correction

AGENCY: Animal and Plant Health Inspection Service, USDA.

ACTION: Proposed rule; correction.

SUMMARY: In a proposed rule published in the Federal Register on August 23, 2005 (Docket No. 04-083-1), we proposed to amend the regulations by adding Argentina to the list of regions considered free of exotic Newcastle disease (END) and announced the availability of a qualitative evaluation regarding the END status of Argentina. The proposed rule contained an incorrect Internet address and incomplete instructions on how to access the qualitative evaluation. This document corrects those errors.

DATES: We will consider all comments that we receive on Docket No. 04-083-1 on or before October 24, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate Docket No. 04-083-1.

• Postal Mail/Commercial Delivery: Please send four copies of your comment (an original and three copies) to Docket No. 04-083-1, Regulatory Analysis and Development, PPD, APHIS, Station 3C71, 4700 River Road Unit 118, Riverdale, MD 20737-1238. Please state that your comment refers to Docket No. 04-083-1.

• Federal eRulemaking Portal: Go to http://www.regulations.gov and follow the instructions for locating this docket and submitting comments.

Reading Room: You may read the qualitative evaluation and any comments that we receive on Docket No. 04-083-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Dr. David Nixon, Case Manager, Regionalization Evaluation Services, National Center for Import and Export, VS, APHIS, 4700 River Road Unit 38, Riverdale, MD 20737-1231; (301) 734-4356.

SUPPLEMENTARY INFORMATION: On August 23, 2005, we published in the Federal Register (70 FR 49200-49207, Docket No. 04-083-1) a proposed rule in which we proposed to amend the regulations in 9 CFR part 94 by adding Argentina to the list of regions considered free of exotic Newcastle disease (END) and announced the availability of a qualitative evaluation regarding the END status of Argentina. The evaluation documents the factors that have led us to conclude that commercial poultry in Argentina are END-free. We are making the proposed rule and the qualitative evaluation available for public comment for 60 days. Comments must be received on or before October 24, 2005.

In the background portion of the proposed rule, we provided an Internet address where the evaluation could be viewed. This address was incorrect. The Internet address should have read: http://www.aphis.usda.gov/vs/ncie/reg-request.html. In addition, the instructions we provided for accessing the evaluation were incomplete. This document corrects those errors.

Correction

In FR Doc. 05-16689, published on August 23, 2005 (70 FR 49200-49207), make the following correction: On page 49205, first column, third full paragraph, in the first sentence, correct http://www.aphis.usda.gov/vs/reg-request.html by following the link for current requests and supporting documentation to read http://www.aphis.usda.gov/vs/ncie/reg-request.html. At the bottom of that Web site page, follow the link for “Information previously submitted by Regions requesting export approval and supporting documentation.” At the next screen, click on the triangle beside “Argentina/ Poultry Products/Exotic Newcastle Disease.” From that screen, you may click on the triangle beside “Response by APHIS” to view the qualitative evaluation and the triangle beside “Information supporting request” to view information provided by Argentine veterinary officials. You may also view the evaluation in our reading room (information on the location and hours of the reading room is provided under the heading ADDRESSES at the beginning of this document)”.

Done in Washington, DC, this 1st day of September 2005.
Elizabeth E. Gaston,
Acting Administrator, Animal and Plant Health Inspection Service.

[FR Doc. 05-17799 Filed 9-7-05; 8:45 am]

BILLING CODE 3410-34-P